ENVIRONMENTAL PROTECTION AGENCY

[EPA-HQ-OPPT-2013-0458; FRL 9912-35-OEI]

Information Collection Request Submitted to OMB for Review and Approval; Comment Request; Chemical-Specific Rules, TSCA Section 8(a) (Renewal)

AGENCY: Environmental Protection Agency (EPA).

ACTION: Notice.

SUMMARY: EPA has submitted the following information collection request (ICR), to the Office of Management and Budget (OMB) for review and approval in accordance with the Paperwork Reduction Act (44 U.S.C. 3501 et seq.): Chemical-Specific Rules, TSCA Section 8(a) (EPA ICR No. 1198.10, OMB Control No. 2070-0067). EPA did not receive any comments in response to the previously provided public review opportunity issued in the Federal Register on November 22, 2013 (78 FR 70037). With this submission, EPA is providing an additional 30 days for public comments. An Agency may not conduct or sponsor and a person is not required to respond to a collection of information unless it displays a currently valid OMB control number.

DATES: Comments muse be submitted on or before July 28, 2014.

ADDRESSES: Submit your comments, referencing Docket ID Number EPA-HQ-OPPT-2013-0458, to (1) EPA online using http://www.regulations.gov (our preferred method) or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, or information claimed to be Confidential Business Information (CBI) or other information whose disclosure is restricted by statute.

FOR FURTHER INFORMATION CONTACT: Pamela Myrick, Deputy Director, Environmental Assistance Division, Office of Pollution Prevention and Toxics, Mail code: 7408M, Environmental Protection Agency, 1200 Pennsylvania Ave. NW., Washington, DC 20460; telephone number: 202-554-1404; fax number: 202-564-8251; email address: TSCA-Hotline@epa.gov.

SUPPLEMENTARY INFORMATION: Docket: Supporting documents, including the ICR that explains in detail the information collection activities and the related burden and cost estimates which is summarized in this document, are available in the docket for this ICR. The docket can be viewed online at http://www.regulations.gov or in person at the EPA Docket Center, William Jefferson Clinton (WJC) West, Room 3334, 1301 Constitution Ave. NW., Washington, DC. The telephone number for the Docket Center is 202-566-1744. For additional information about EPA's public docket, visit http://www.epa.gov/dockets.

ICR Title: Chemical-Specific Rules, TSCA Section 8(a).

ICR numbers: EPA ICR No.1198.10, OMB Control No. 2070-0067.

ICR status: The current OMB approval for this ICR is scheduled to expire on June 30, 2014. Under OMB regulations, the Agency may continue to conduct or sponsor the collection of information while this submission is pending at OMB.

Abstract: Section 8(a) of the Toxic Substances Control Act (TSCA) authorizes EPA to promulgate rules that require persons who manufacture, import or process chemical substances and mixtures, or who propose to manufacture, import, or process chemical substances and mixtures, to maintain such records and submit such reports to EPA as may be reasonably required. Any chemical covered by TSCA for which EPA or another Federal agency has a reasonable need for information and which cannot be satisfied via other sources is a proper potential subject for a Chemical-Specific TSCA Section 8(a) Rulemaking. Information that may be collected under TSCA section 8(a) includes, but is not limited to, chemical names; categories of use; production or processing volume, byproducts of chemical production, processing, use or disposal; existing data concerning environmental and health effects; exposure data; and disposal information.

Generally, EPA uses chemical-specific information under TSCA section 8(a) to evaluate the potential for adverse human health and environmental effects caused by the manufacture (including import), processing, use or disposal of identified chemical substances and mixtures. Additionally, EPA may use TSCA section 8(a) information to assess the need or set priorities for testing and/or further regulatory action. To the extent that the submitter considers the reported information not to be confidential, environmental groups, environmental justice advocates, state and local government entities and other members of the public will also have access to this information for their use.

Respondents may claim all or part of a response confidential. EPA will disclose information that is covered by a claim of confidentiality only to the extent permitted by, and in accordance with, the procedures in TSCA section 14 and 40 CFR part 2.

Respondents/affected entities: Entities potentially affected by this action are primarily those businesses that fall under NAICS codes 325, Chemical Manufacturers and Processors, and 324110, Petroleum Refineries.

Respondent's obligation to respond: Mandatory (see 40 CFR 704).

Estimated number of respondents: 4 (total).

Frequency of response: On occasion.

Total estimated burden: 275 hours per year. Burden is defined at 5 CFR 1320.3(b).

Total estimated cost: $16,551 per year, includes $0 annualized capital or operation and maintenance costs.

Changes in the estimates: There is no change in the number of hours in the total estimated respondent burden compared with that identified in the ICR currently approved by OMB.

Spencer W. Clark,
Acting Director, Collection Strategies Division.

[FR Doc. 2014-14887 Filed 6-25-14; 8:45 am]

BILLING CODE 6560-50-P